SECURITIES AND EXCHANGE COMMISSION

[Release No. 34-100500; File No. 4-757]

Joint Industry Plan; Notice of Designation of a Longer Period for Commission Action on a Proposed National Market System Plan Regarding Consolidated Equity Market Data

July 11, 2024.

On October 23, 2023, Cboe BYX Exchange, Inc., Cboe BZX Exchange, Inc., Cboe EDGA Exchange, Inc., Cboe EDGX Exchange, Inc., Cboe Exchange, Inc., Investors Exchange LLC, Long Term Stock Exchange, Inc., MEMX LLC, MIAX PEARL, LLC, Nasdaq BX, Inc., Nasdaq ISE, LLC, Nasdaq PHLX LLC, Nasdaq Stock Market LLC, New York Stock Exchange LLC, NYSE American LLC, NYSE Arca, Inc., NYSE Chicago, Inc., NYSE National, Inc., and Financial Industry Regulatory Authority, Inc. filed with the Securities and Exchange Commission (“Commission”) a proposed new single national market system plan governing the public dissemination of real-time consolidated equity market data for national market system stocks (the “CT Plan”). The proposed CT Plan was published for comment in the Federal Register on January 25, 2024.¹

¹ See Joint Industry Plan; Notice of Filing of a National Market System Plan Regarding Consolidated Equity Market Data, Securities Exchange Act Release No. 99403 (Jan. 19, 2024), 89 FR 5002 (Jan. 25, 2024) (“Notice”). Comments received in response to the Notice can be found on the Commission's website at: https://www.sec.gov/comments/4-757/4-757.htm.

On April 23, 2024, the Commission instituted proceedings pursuant to Rule 608(b)(2)(i) of Regulation NMS ² under the Exchange Act to determine whether to approve or disapprove the proposed CT Plan or to approve the proposed CT Plan with any changes or subject to any conditions the Commission deems necessary or appropriate after considering public comment.³ Rule 608(b)(2)(i) of Regulation NMS provides that such proceedings shall be concluded within 180 days of the date of publication of notice of the plan or amendment and that the time for conclusion of such proceedings may be extended for up to 60 days (up to 240 days from the date of notice publication) if the Commission determines that a longer period is appropriate and publishes the reasons for such determination or the plan participants consent to a longer period.⁴ The 180th day after publication of the Notice for the proposed CT Plan is July 23, 2024. The Commission is extending this 180-day period.

² 17 CFR 242.608(b)(2)(i).

³ See Joint Industry Plan; Order Instituting Proceedings to Determine Whether to Approve or Disapprove a National Market System Plan Regarding Consolidated Equity Market Data, Securities Exchange Act Release No. 100017 (Apr. 23, 2024), 89 FR 33412 (Apr. 29, 2024) (“OIP”). Comments received in response to the OIP can be found on the Commission's website at: https://www.sec.gov/comments/4-757/4-757.htm.

⁴ See 17 CFR 242.608(b)(2)(i).

The Commission finds that it is appropriate to designate a longer period within which to conclude proceedings regarding the proposed CT Plan so that it has sufficient time to consider the proposed CT Plan and the comments received. Accordingly, pursuant to Rule 608(b)(2)(i) of Regulation NMS,⁵ the Commission designates September 21, 2024, as the date by which the Commission shall conclude the proceedings to determine whether to approve or disapprove the proposed CT Plan or to approve the proposed CT Plan with any changes or subject to any conditions the Commission deems necessary or appropriate (File No. 4-757).

⁵ Id.

For the Commission, by the Division of Trading and Markets, pursuant to delegated authority.⁶
⁶ 17 CFR 200.30-3(a)(85).
J. Matthew DeLesDernier,
Deputy Secretary.

[FR Doc. 2024-15670 Filed 7-16-24; 8:45 am]

BILLING CODE 8011-01-P